DEPARTMENT OF LABOR

Employment and Training Administration

[OMB Control No. 1205-0392]

Comment Request for Information Collection for the Trade Act Participant Report, Extension Without Revisions

AGENCY: Employment and Training Administration.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data on the Trade Act Participant Report, which is due to expire March 31, 2010.

The Department of Labor submitted this information collection request (ICR), utilizing emergency review procedures, on July 17, 2009, to the Office of Management and Budget (OMB) for review and clearance in accordance with the Paperwork Reduction Act of 1995 (Pub. L. 104-13, 44 U.S.C. Chapter 35) and 5 CFR 1320.13. OMB approved the collection through March 31, 2010. A copy of this ICR, with applicable supporting documentation; including among other things a description of the likely respondents, proposed frequency of response, and estimated total burden may be obtained from the RegInfo.gov Web site at http://www.reginfo.gov/public/do/PRAMain A copy of the proposed information collection request (ICR) can also be obtained by contacting the office listed below in the addressee section of this notice.

DATES: Written comments must be submitted to the office listed in the addressee's section below on or before February 8, 2010.

ADDRESSES: Submit written comments to Susan Worden, Room N-5428 Employment and Training Administration, 200 Constitution Avenue, NW., Washington, DC 20210. Telephone number: 202-693-3517 (this is not a toll-free number). Fax: 202-693-3584. E-mail: worden.susan@dol.gov.

SUPPLEMENTARY INFORMATION:

I. Background: In order to provide data that is broken out by industry, as mandated by Section 249B (c) of the Trade Act of 1974, as amended, a comprehensive range of TAA participant activities and outcomes must be broken out to industry sectors from state level aggregates that were previously provided on two of the three TAA participant reports: OMB 1205-0016, and OMB 1205-0459. That reporting system required states to submit, annually, separate participation and performance reports using formats, definitions, instructions, and submission procedures that differ from those required under the new report. In some instances, that reporting system resulted in confusion regarding the time periods used for calculating program performance, what data are to be reported, and how the data are prepared for submission on a timely basis. These inconsistencies have limited the reliability of reported data, consequently reducing the Department's ability to make the most effective use of participant data for establishing state level funding needs, reporting on the progress of programs to the Administration and Congress, and imposing unnecessary administrative burdens on CSAs that seek to coordinate service delivery and performance measurement in a local One-Stop environment. Section 239(j)(3) of the Trade Act provides that “each cooperating State or cooperating State agency shall establish procedures that are consistent with guidelines to be issued by the Secretary to ensure that the data reported are valid and reliable.”

As a result of new statutory provisions, and in the interest of providing data on the administration and performance of the TAA program that is reliable, usable and consistent, the current information collection encompassed in OMB Control No. 1205-0392 consolidates information previously collected under three separate data collections into a single streamlined reporting system. As a result of this consolidation, OMB 1205-0016 and OMB 1205-0459 have been discontinued.

II. Review Focus:

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions:

Type of Review: extension without changes.

Title: Trade Act Participant Report.

OMB Number: 1205-0392.

Affected Public: State, Local, or Tribal Governments.

Total Estimated Number of Respondents: 50.

Frequency of Collection: Quarterly.

Total Responses: 50 × 4 = 200.

Average Time per Response: 45 hours per quarterly submission.

Estimated Total Burden Hours: 9,000.

Total Burden Cost for Respondents: $0.

Comments submitted in response to this comment request will be summarized and/or included in the request for Office of Management and Budget approval of the information collection request; they will also become a matter of public record.

Dated: December 2, 2009.
Jane Oates,
Assistant Secretary, Employment and Training Administration.

[FR Doc. E9-29186 Filed 12-7-09; 8:45 am]

BILLING CODE 4510-FN-P